DEPARTMENT OF TRANSPORTATION

Federal Aviation Administration

Agency Information Collection Activities: Requests for Comments; Clearance of Renewed Approval of Information Collection: FAA Entry Point Filing Form—International Registry

AGENCY: Federal Aviation Administration (FAA), DOT.

ACTION: Notice and request for comments.

SUMMARY: In accordance with the Paperwork Reduction Act of 1995, FAA invites public comments about our intention to request the Office of Management and Budget (OMB) approval to renew a previously approved information collection. The information collected is required from aircraft operators who wish to obtain a unique authorization code for transmitting information to the International Registry in Dublin, Ireland. An estimated 30 minutes is required to complete the only form in the collection, AC Form 8050-135. The Federal Register Notice with a 60-day comment period soliciting comments on the following collection of information was published on March 28, 2018. No comments were received.

DATES: Written comments should be submitted by June 28, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0697.

Title: FAA Entry Point Filing Form—International Registry.

Form Numbers: AC Form 8050-135.

Type of Review: Renewal of an information collection.

Background: This information collection supports Department of Transportation strategic goals regarding safety and security. The information collected is necessary to obtain an authorization code for transmission of information to the International Registry. The Convention on International Interest in Mobile Equipment, as modified by the Protocol to the Convention on International Interests in Mobile Equipment on Matters Specific to Aircraft Equipment (herein after the Cape Town Treaty or Treaty), provides for the creation and sustainment of the International Registry. The International Registry is an electronic registry system that works in tandem with the current system operated by the FAA Civil Aviation Registry (Registry) for the United States. Congress has designated the Registry as the exclusive United States Entry Point for transmissions to the International Registry. To transmit certain types of interests or prospective interests to the International Registry, interested parties must file a completed FAA Entry Point Filing Form—International Registry, AC Form 8050-135, with the Registry. Upon receipt of the completed form, the Registry, upon verifying the accuracy of the submitted data, issues the unique authorization code.

Respondents: Aircraft owners desiring authorization for filing with the International Registry. The submission of the information in question is not an FAA requirement for aircraft registration. Its sole purpose is to create authorization for filing with the International Registry.

Frequency: Information is collected on occasion, as desired by the aircraft owner.

Estimated Average Burden per Response: 30 minutes.

Estimated Total Annual Burden: Based on FY '17 approximately 15,000 filings, the estimated annual burden is 7,500 hours.

Issued in Fort Worth, TX, on May 24, 2018.
Jonathan Haupt,
Acting Manager, IT Strategy and Investment Portfolio Branch, ASP-120.

[FR Doc. 2018-11568 Filed 5-25-18; 8:45 am]

BILLING CODE 4910-13-P